DEPARTMENT OF TRANSPORTATION

Office of the Secretary

Aviation Proceedings, Agreements Filed the Week Ending April 25, 2003

The following Agreements were filed with the Department of Transportation under the provisions of 49 U.S.C. 412 and 414. Answers may be filed within 21 days after the filing of the application.

Docket Number: OST-2003-15016.

Date Filed: April 22, 2003.

Parties: Members of the International Air Transport Association.

Subject:

PTC2 EUR-AFR 0170 dated February 28, 2003

TC2 Europe—Africa Resolutions r1—r36

Minutes—PTC2 EUR-AFR 0171 dated April 1, 2003

Tables—PTC2 EUR-AFR Fares 0098 dated March 7, 2003

Intended effective date: May 1, 2003.

Docket Number: OST-2003-15020.

Date Filed: April 23, 2003.

Parties: Members of the International Air Transport Association.

Subject:

PTC3 0641 dated April 23, 2003

Mail Vote 296—Resolution 010k

TC3 Between Japan, Korea and South East Asia

Special Passenger Amending Resolution between China (excluding Hong Kong SAR and Macao SAR) and Japan.

Fares Between Yantai and Osaka, between Nanjing and Tokyo.

Intended effective date: May 1, 2003.

Docket Number: OST-2003-15022.

Date Filed: April 23, 2003.

Parties: Members of the International Air Transport Association.

Subject:

PTC3 0640 dated April 23, 2003

Mail Vote 295—Resolution 010j

TC3 Special Passenger Amending Resolution

From Papua New Guinea

Intended effective date: May 1, 2003.

Docket Number: OST-2003-15042.

Date Filed: April 24, 2003.

Parties: Members of the International Air Transport Association.

Subject:

PTC2 EUR 0513 dated April 22, 2003

Mail Vote 292—Resolution 010e r1-r3

TC2 Within Europe Special Passenger Amending Resolution from Algerie

PTC2 EUR-AFR 0173 dated April 25, 2003

Mail Vote 292—Resolution 010e r4-r6

TC2 Special Passenger Amending Resolution from Algerie to Western Africa

PTC2 EUR-ME 0158 dated April 25, 2003

Mail Vote 292—Resolution 010e r7-r11

TC2 Special Passenger Amending Resolution from Algerie to Middle East

Intended effective date: May 1, 2003.

Docket Number: OST-2003-15044.

Date Filed: April 24, 2003.

Parties: Members of the International Air Transport Association.

Subject:

PTC3 0642 dated April 22, 2003

Mail Vote 297—Resolution 0101

TC3 Between Japan, Korea and South East Asia

Special Passenger Amending Resolution between Japan and Chinese Taipei

Intended effective date: June 1, 2003.

Andrea M. Jenkins,
Docket Operations, Federal Register Liaison.

[FR Doc. 03-10834 Filed 5-1-03; 8:45 am]

BILLING CODE 4910-62-P